DEPARTMENT OF LABOR

Office of the Secretary

Agency Information Collection Activities; Submission for OMB Review; Comment Request; Annual Refiling Survey

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that agency receives on or before December 31, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The Quarterly Census of Employment and Wages (QCEW) program is a federal/state cooperative effort which compiles monthly employment data, quarterly wages data, and business identification information from employers subject to state Unemployment Insurance (UI) laws. These data are collected from state Quarterly Contribution Reports (QCRs) submitted to State Workforce Agencies (SWAs). The states send micro-level employment and wages data, supplemented with the names, addresses, and business identification information of these employers, to the BLS. The state data are used to create the BLS sampling frame, known as the longitudinal QCEW data. To ensure the continued accuracy of these data, the information supplied by employers must be periodically verified and updated. For this purpose, the Annual Refiling Survey (ARS) is used in conjunction with the UI tax reporting system in each state. The information collected by the ARS is used to review the existing industry code assigned to each establishment as well as the physical location of the business establishment. As a result, changes in the industrial and geographical compositions of our economy are captured in a timely manner and reflected in the BLS statistical programs. The ARS also asks employers to identify new locations in the state. If these employers meet QCEW program reporting criteria, then a Multiple Worksite Report (MWR) is sent to the employer requesting employment and wages for each worksite each quarter. Thus, the ARS is also used to identify new potential MWR-eligible employers. Office of Management and Budget clearance is being sought for a revision to the ARS. Once every three years, the SWAs survey employers that are covered by the state's UI laws to ensure that state records correctly reflect the business activities and locations of those employers. States survey approximately one-third of their businesses each year and largely take care of the entire universe of covered businesses over a three-year cycle. The selection criterion for surveying establishments is based on the nine-digit Federal Employer Identification Number of the respondent. BLS constantly pursues a growing number of automated reporting options to reduce employer burden and costs and to take advantage of more efficient methods and procedures. Even given such actions, mailing remains an important part of the survey. The BLS developed a one-page letter rather than mailing forms for ARS solicitation. This letter explains the purpose of the ARS and provides respondents with a unique Web ID and password. Respondents are directed to the BLS online web collection system to verify or to update their geographic and industry information. Additionally, BLS staff review selected, large multi-worksite national employers rather than surveying these employers with traditional ARS forms. This central review reduces postage costs incurred by the states in sending letters or forms. It also reduces respondent burden, as the selected employers do not have to return forms either. BLS continues to use a private contractor to handle various administrative aspects of the survey to reduce the costs associated with the ARS. This initiative is called the Centralized Annual Refiling Survey (CARS). Under CARS, BLS effectively utilizes the commercial advantages related to printing and mailing large volumes of survey letters. Finally, BLS continues to make use of email addresses collected from the ARS and from the state Unemployment Insurance agencies for solicitation purposes. Use of email for solicitation reduces the overall cost of data collection. BLS will also continue to make use of email solicitation of small establishments that had been excluded from the ARS for budgetary reasons. Since collection costs for email solicitation are minimal, these respondents can continue to be added back to the ARS at little cost to the government. For additional substantive information about this ICR, see the related notice published in the Federal Register on August 24, 2020 (85 FR 52158).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-BLS.

Title of Collection: Annual Refiling Survey.

OMB Control Number: 1220-0032.

Affected Public: Businesses or other for-profits institutions; farms; not-for-profit institutions.

Total Estimated Number of Respondents: 1,098,000.

Total Estimated Number of Responses: 1,098,000.

Total Estimated Annual Time Burden: 116,750 hours.

Total Estimated Annual Other Costs Burden: $0.

(Authority: 44 U.S.C. 3507(a)(1)(D))

Dated: November 24, 2020.
Anthony May,
Management and Program Analyst.

[FR Doc. 2020-26433 Filed 11-30-20; 8:45 am]

BILLING CODE 4510-24-P